DEPARTMENT OF COMMERCE

National Oceanic and Atmospheric Administration

[RTID 0648-XB324]

North Pacific Fishery Management Council; Public Meeting

AGENCY: National Marine Fisheries Service (NMFS), National Oceanic and Atmospheric Administration (NOAA), Commerce.

ACTION: Notice of web conference.

SUMMARY: The North Pacific Fishery Management Council (Council) Bering Sea Fishery Ecosystem Plan (BS FEP) Team will meet September 1, 2021, and on September 2, 2021.

DATES: The meeting will be held on Wednesday, September 1, 2021, from 12:30 p.m. to 3 p.m. and on Thursday, September 2, 2021, from 12:30 p.m. to 4 p.m. Alaska Time.

ADDRESSES: The meeting will be a webconference. Join online through the link at https://meetings.npfmc.org/Meeting/Details/2393.

Council address: North Pacific Fishery Management Council, 1007 W 3rd Ave., Anchorage, AK 99501-2252; telephone: (907) 271-2809. Instructions for attending the meeting are given under SUPPLEMENTARY INFORMATION below.

FOR FURTHER INFORMATION CONTACT: Diana Evans, Council staff; phone: (907) 271-2809 and email: diana.evans@noaa.gov. For technical support, please contact administrative Council staff, email: npfmc.admin@noaa.gov.

SUPPLEMENTARY INFORMATION:

Agenda

Wednesday and Thursday, September 1 and 2, 2021

The BS FEP team will hold a workshop to develop the Bering Sea Ecosystem Health Report. The agenda is subject to change, and the latest version will be posted at https://meetings.npfmc.org/Meeting/Details/2393 prior to the meeting, along with

Connection Information

You can attend the meeting online using a computer, tablet, or smartphone; or by phone only. Connection information will be posted online at: https://meetings.npfmc.org/Meeting/Details/2393.

Public Comment

Public comment letters will be accepted and should be submitted electronically to https://meetings.npfmc.org/Meeting/Details/2393.

Authority: 16 U.S.C. 1801 et seq.

Dated: August 11, 2021.
Tracey L. Thompson,
Acting Deputy Director, Office of Sustainable Fisheries, National Marine Fisheries Service.

[FR Doc. 2021-17449 Filed 8-13-21; 8:45 am]

BILLING CODE 3510-22-P